DEPARTMENT OF ENERGY

Federal Energy Regulatory Commission

Combined Notice of Filings #1

Take notice that the Commission received the following exempt wholesale generator filings:

Docket Numbers: EG20-167-000.

Applicants: Wheatridge Wind Energy, LLC.

Description: Notice of Self-Certification of Exempt Wholesale Generation Status of Wheatridge Wind Energy, LLC.

Filed Date: 5/20/20.

Accession Number: 20200520-5093.

Comments Due: 5 p.m. ET 6/10/20.

Docket Numbers: EG20-168-000.

Applicants: Wheatridge Wind II, LLC.

Description: Notice of Self-Certification of Exempt Wholesale Generator Status of Wheatridge Wind II, LLC.

Filed Date: 5/20/20.

Accession Number: 20200520-5094.

Comments Due: 5 p.m. ET 6/10/20.

Take notice that the Commission received the following electric rate filings:

Docket Numbers: ER10-1852-037.

Applicants: Florida Power & Light Company.

Description: Notification of Change in Status of Florida Power & Light Company.

Filed Date: 5/19/20.

Accession Number: 20200519-5155.

Comments Due: 5 p.m. ET 6/9/20.

Docket Numbers: ER19-1864-004.

Applicants: Public Service Company of Colorado.

Description: Compliance filing: OATT_Att N-LGIP-Order Compl-Errata_ER19-1864 to be effective 12/5/2019.

Filed Date: 5/19/20.

Accession Number: 20200519-5010.

Comments Due: 5 p.m. ET 6/9/20.

Docket Numbers: ER20-954-002.

Applicants: Ohio Power Company, AEP Ohio Transmission Company, Inc., American Electric Power Service Corporation, PJM Interconnection, L.L.C.

Description: Compliance filing: AEP submits Compliance Filing in ER20-954 re: ILDSA, SA No. 1336 to be effective 4/4/2020.

Filed Date: 5/20/20.

Accession Number: 20200520-5082.

Comments Due: 5 p.m. ET 6/10/20.

Docket Numbers: ER20-1333-001.

Applicants: Public Service Company of Colorado.

Description: Tariff Amendment: PSC-BHS1-Evras-PLGIA-572-0.0.0-DeficiencyLtr_ER20-1333 to be effective 3/19/2020.

Filed Date: 5/20/20.

Accession Number: 20200520-5122.

Comments Due: 5 p.m. ET 6/10/20.

Docket Numbers: ER20-1395-000.

Applicants: ND OTM LLC.

Description: Supplement to March 26, 2020 ND OTM LLC tariff filing (Asset Appendix).

Filed Date: 5/20/20.

Accession Number: 20200520-5095.

Comments Due: 5 p.m. ET 6/10/20.

Docket Numbers: ER20-1487-001.

Applicants: Frontier Windpower II, LLC.

Description: Tariff Amendment: Amendment to Application for Market-Based Rate Authority to be effective 6/2/2020.

Filed Date: 5/19/20.

Accession Number: 20200519-5147.

Comments Due: 5 p.m. ET 5/29/20.

Docket Numbers: ER20-1854-001.

Applicants: PJM Interconnection, L.L.C.

Description: Tariff Amendment: Amendment to ER20-1854-000 Re: AC2-138/AD2-044 WMPA 4869 to be effective 2/22/2019.

Filed Date: 5/20/20.

Accession Number: 20200520-5098.

Comments Due: 5 p.m. ET 6/10/20.

Docket Numbers: ER20-1855-000.

Applicants: NSTAR Electric Company.

Description: § 205(d) Rate Filing: Preliminary Engineering and Design Agreement with Mayflower Wind Energy LLC to be effective 5/19/2020.

Filed Date: 5/19/20.

Accession Number: 20200519-5145.

Comments Due: 5 p.m. ET 6/9/20.

Docket Numbers: ER20-1856-000.

Applicants: California Independent System Operator Corporation.

Description: § 205(d) Rate Filing: 2020-05-19 Certificate of Concurrence for UFA among Atlas Solar LLC, SCE & CAISO to be effective 4/14/2020.

Filed Date: 5/19/20.

Accession Number: 20200519-5151.

Comments Due: 5 p.m. ET 6/9/20.

Docket Numbers: ER20-1857-000.

Applicants: El Paso Electric Company.

Description: § 205(d) Rate Filing: Concurrence of EPE to APS Service Agreement No. 376 to be effective 12/9/2019.

Filed Date: 5/19/20.

Accession Number: 20200519-5154.

Comments Due: 5 p.m. ET 6/9/20.

Docket Numbers: ER20-1858-000.

Applicants: Midcontinent Independent System Operator, Inc.

Description: § 205(d) Rate Filing: 2020-05-20_SA 3496 ATC-Shullsburg Wind Farm GIA (J819) to be effective 5/6/2020.

Filed Date: 5/20/20.

Accession Number: 20200520-5020.

Comments Due: 5 p.m. ET 6/10/20.

Docket Numbers: ER20-1859-000.

Applicants: Tampa Electric Company.

Description: Motion for Waiver of Open Access Transmission Tariff Provision, et al. of Tampa Electric Company.

Filed Date: 5/19/20.

Accession Number: 20200519-5178.

Comments Due: 5 p.m. ET 5/26/20.

Docket Numbers: ER20-1860-000.

Applicants: AEP Texas Inc.

Description: § 205(d) Rate Filing: AEPTX-Helena Wind Interconnection Agreement to be effective 5/5/2020.

Filed Date: 5/20/20.

Accession Number: 20200520-5058.

Comments Due: 5 p.m. ET 6/10/20.

Docket Numbers: ER20-1861-000.

Applicants: PJM Interconnection, L.L.C., Delaware Municipal Electric Corporation, Inc.

Description: § 205(d) Rate Filing: Revised SA No. 2978, NITSA Among PJM and Delaware Municipal Electric Corp. to be effective 5/1/2020.

Filed Date: 5/20/20.

Accession Number: 20200520-5064.

Comments Due: 5 p.m. ET 6/10/20.

Docket Numbers: ER20-1862-000.

Applicants: ISO New England Inc., New England Power Pool Participants Committee.

Description: § 205(d) Rate Filing: Tariff Rev Related to Enhancements & Clean-Up Changes Under the Billing Policy to be effective 7/27/2020.

Filed Date: 5/20/20.

Accession Number: 20200520-5068.

Comments Due: 5 p.m. ET 6/10/20.

Docket Numbers: ER20-1863-000.

Applicants: Ingenco Wholesale Power, L.L.C.

Description: Baseline eTariff Filing: Reactive Power Compensation Filing to be effective 6/1/2020.

Filed Date: 5/20/20.

Accession Number: 20200520-5086.

Comments Due: 5 p.m. ET 6/10/20.

Docket Numbers: ER20-1864-000.

Applicants: New England Power Company.

Description: § 205(d) Rate Filing: Filing to Revise Depreciation Rates in Service Agreement Nos. 20 and 23 to be effective 7/1/2020.

Filed Date: 5/20/20.

Accession Number: 20200520-5126.

Comments Due: 5 p.m. ET 6/10/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

¹ Data Collection for Analytics & Surveillance and Market-Based Rate Purposes, Order No. 860, 168 FERC 61,039 (2019), order on reh'g, Order No. 860-A, 170 FERC 61,129 (2020).

Dated: May 20, 2020.
Nathaniel J. Davis, Sr.,
Deputy Secretary.

[FR Doc. 2020-11334 Filed 5-26-20; 8:45 am]

BILLING CODE 6717-01-P